DEPARTMENT OF COMMERCE

National Oceanic and Atmospheric Administration

RIN: 0648-XA981

Caribbean Fishery Management Council; Public Meeting

AGENCY: National Marine Fisheries Service (NMFS), National Oceanic and Atmospheric Administration (NOAA), Commerce.

ACTION: Notice of public meeting.

SUMMARY: The Caribbean Fishery Management Council's (Council) Outreach and Education Advisory Panel (OEAP) will hold a meeting.

DATES: The OEAP meeting will be held on February 28, 2012, from 10 a.m. until 4 p.m.

ADDRESSES: The meeting will be held at the Doubletree Hilton Hotel in 105 De Diego Avenue, Santurce, Puerto Rico.

FOR FURTHER INFORMATION CONTACT: Caribbean Fishery Management Council, 268 Muñoz Rivera Avenue, Suite 1108, San Juan, Puerto Rico 00918-1920; telephone: (787) 766-5926.

SUPPLEMENTARY INFORMATION: The OEAP will meet to discuss the items contained in the following agenda:

—Call to Order

—Welcome—Miguel Rolón

—Goals and Objectives of the CFMC Outreach and Education Advisory Panel (OEAP)

—What the CFMC Expects of the OEAP

—Strategic Plan for O&E

—APPs for Smart Phones

—Web page Redesign

—Bulletin/Newsletter

—Social Network Pages

—Streaming of Council Meetings

—Other Business

The meeting is open to the public, and will be conducted in English. Fishers and other interested persons are invited to attend and participate with oral or written statements regarding agenda issues.

Special Accommodations

This meeting is physically accessible to people with disabilities. For more information or request for sign language interpretation and/other auxiliary aids, please contact Mr. Miguel A. Rolón, Executive Director, Caribbean Fishery Management Council, 268 Muñoz Rivera Avenue, Suite 1108, San Juan, Puerto Rico, 00918-1920, telephone: (787) 766-5926, at least 5 days prior to the meeting date.

Dated: February 1, 2012.
Tracey L. Thompson,
Acting Director, Office of Sustainable Fisheries, National Marine Fisheries Service.

[FR Doc. 2012-2552 Filed 2-3-12; 8:45 am]

BILLING CODE 3510-22-P